DEPARTMENT OF COMMERCE

International Trade Administration

Civil Nuclear Policy Mission to Central and Eastern Europe

AGENCY: International Trade Administration, Department of Commerce.

ACTION: Notice.

Mission Description

The United States Department of Commerce, International Trade Administration is organizing a Civil Nuclear Policy Mission to Warsaw, Poland; Prague, Czech Republic and Bratislava, Slovakia from April 18-23, 2010. Led by a senior Department of Commerce official, the mission will focus on: (1) Infrastructure and tender development, to include the safe, secure and proliferation-resistant trade in goods and services; (2) promotion of the Convention on Supplementary Compensation for Nuclear Damages (CSC) nuclear liability regime; (3) bilateral cooperation on civil nuclear commercial opportunities, and (4) ensuring opportunities for U.S. firms. The mission will demonstrate significant U.S. support for its civil nuclear industry and the wide range of technical and commercial capabilities it possesses. The mission will promote U.S. companies from across the civil nuclear supply chain, including engineering services; fuel providers and processing services; reactor designers and builders; program managers; universities and other nuclear training institutions; and, small modular reactor technologies.

Commercial Setting

The Central and Eastern European market offers significant commercial opportunities for the U.S. civil nuclear industry. Increasing energy demands, dependence on Russian fossil fuels, and a small but aging fleet of Russian reactor technologies is colliding with pressure from the EU to meet stricter carbon emissions standards. Competitors of the U.S. civil nuclear sector are predominantly government owned entities and receive major support from their respective governments. Developments in each of the policy mission countries signal an historic opportunity to provide U.S. industry the kinds of government support most foreign companies receive. While there are opportunities in many of the countries in the region, Poland, the Czech Republic, and Slovakia offer near term viable commercial opportunities now.

Poland is rapidly moving towards significant developments of its civil nuclear infrastructure and there is momentum within the government to achieve its aggressive goal of having a nuclear reactor online by 2020. In terms of infrastructure development, the Polish government has released an official public declaration of its intentions to develop and support an indigenous civil nuclear industry—the first of many milestones laid out by the International Atomic Energy Agency (IAEA). Poland has expressed great interest in diversifying its energy portfolio, which is now overwhelmingly dominated by coal-based electricity production.

The Czech Republic has significant past experience with nuclear energy but is looking to make decisions about a new reactor build at its Temelin site—at the end of the recent preliminary qualification round the U.S. was identified as one of the competing technologies for the nuclear tender to be released later this year.

While Slovakia is still a year or more away from releasing a nuclear tender, language included in the Czech Republic's nuclear tender allows for the awarded company to have the opportunity to build reactors wherever CEZ, the managing utility group, has possible sites. This includes one new reactor in Slovakia.

Mission Goals

The objective of this policy mission is to leverage U.S. support for its civil nuclear sector, demonstrate technical capabilities in support of the development of upcoming nuclear tenders, and introduce U.S. companies to key government officials and utility executives. The mission will also seek to inform secondary U.S. suppliers—those not directly bidding on the design aspect of nuclear tenders—about the market opportunities available to them.

In addition, mission goals include:

• Encouraging the nuclear industry in participating countries to seek opportunities for new construction;

• Promoting fair, open, and transparent contract bidding processes;

• Advancing the principle that contracts should be awarded based on commercial and technical merits; and,

• Promoting ratification of the Convention on Supplementary Compensation for Nuclear Damage (CSC) as the global nuclear liability regime—the only international instrument that provides the basis for establishing a global regime, including countries with and without nuclear power facilities. Without such a regime, in the unlikely event of a nuclear incident, claims for damage would be the subject of protracted and complicated litigation in the courts of many countries against multiple potential defendants with no guarantee of recovery. The U.S. ratified CSC in 2008.

This mission advances the goals of the Department's Civil Nuclear Trade Initiative, which is aimed at supporting the U.S. nuclear industry's endeavors to rebuild its manufacturing base by capturing opportunities abroad. We believe this will result in important economic gains for the United States in terms of new jobs, technological innovations, specialized manufacturing capabilities, and large-scale trade and investment opportunities.

Mission Scenario

Participants will visit capitals in each of the three countries—Warsaw, Prague, and Bratislava.

During the trade mission participants will: (1) Be briefed on the status of the civil nuclear infrastructure in each country; (2) be introduced to government officials and decision makers; and (3) be taken on a site visit to the Temelin reactor.

Proposed Mission Timetable
Date | Day | Activity
April 18 | Sunday—Warsaw | • Arrive in Warsaw, Poland.
|  | • Reception dinner.
April 19 | Monday—Warsaw | • Meetings with Government of Poland officials and decision makers from the Polish utility PGE.
|  | • Commercial briefings from Embassy staff and Commerce experts.
April 20 | Tuesday—Warsaw/Prague | • Additional meetings with Polish officials and potential private sector partners.
|  | • Travel to Prague.
|  | • Meetings with Government of Czech Republic officials and decision makers from CEZ.
|  | • Reception dinner in Prague.
April 21 | Wednesday—Prague | • Meetings with Government of Czech Republic officials and decision makers from CEZ.
April 22 | Thursday—Bratislava | • Travel to Temelin for a site visit.
|  | • Travel to Bratislava.
|  | • Commercial briefings from Embassy staff and Commerce experts.
|  | • Reception dinner in Bratislava.
April 23 | Friday—Bratislava | • Government and utility meetings.
|  | • Depart for Vienna and DC.
Note: The final schedule and potential site visits will depend on the availability of local government and business officials, specific goals of mission participants, and air travel schedules.

Participation Requirements

All persons interested in participating in the Civil Nuclear Policy Mission must complete and submit an application for consideration by the Department of Commerce. All applicants will be evaluated on their ability to meet certain conditions and best satisfy the selection criteria as outlined below. Approximately 8 to 12 companies will be selected to participate in the mission from the applicant pool. U.S. companies already doing business in the region as well as U.S. companies seeking to enter the region for the first time are encouraged to apply.

Fees and Expenses

After a company or trade organization has been selected to participate in the mission, a payment to the Department of Commerce in the form of a participation fee is required. The participation fee, which will cover one representative, will be $4,500.00 for large firms and $3,000.00 for a small or medium-sized enterprise (SME) ¹ or non-government organization.² The fee for each additional firm representative is $600. Expenses for travel, lodging, most meals, and incidentals will be the responsibility of each mission participant.

¹ An SME is defined as a firm with 500 or fewer employees or that otherwise qualifies as a small business under SBA regulations (see http://www.sba.gov/services/contracting opportunities/sizestandardstopics/index.html).

² Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation. If the U.S. Department of Commerce receives an incomplete application, the Department may reject the application, request additional information, or take the lack of information into account when evaluating.

• Certify that the products and services the export of which it seeks to promote through the mission are either produced in the United States, or, if not, marketed under the name of a U.S. firm and have at least fifty-one percent U.S. content. Because of the unique nature of the energy sector targeted by this mission, in cases where the U.S. content does not exceed fifty percent, especially where the applicant intends to pursue investment and major project opportunities, the following factors, often associated with U.S. ownership, may be considered in determining whether the applicant's participation in the trade mission is in the U.S. national interest:

—U.S. materials and equipment content;

—U.S. labor content;

—Repatriation of profits to the U.S. economy; and/or

—Potential for follow-on business that would benefit the U.S. economy;

• No applicant may represent a company that is majority owned or controlled by a foreign government entity or entities.

Selection Criteria for Participation

Selection will be based on the following criteria:

• Suitability of the company's products or services;

• Applicant's potential for business in Poland, Czech Republic and Slovakia, including likelihood of exports resulting from the mission; and

• Consistency of the applicant's goals and objectives with the stated scope of the mission.

Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows.

Recruitment for the mission will begin immediately and conclude no later than Monday, March 15, 2010. The U.S. Department of Commerce will review all applications after the deadline. We will inform applicants of selection decisions after March 15, 2010. Applications received after the deadline will be considered only if space and scheduling constraints permit.

Contacts

David Kincaid, Manufacturing and Services, Office of Energy and Environmental Industries, Tel: 202-482-1706, Fax: 202-482-5665, E-mail: David.Kincaid@trade.gov ;

Reginald Miller, Regional Director for Central/Eastern Europe and Russia, Tel: 202-482-5402, Fax: 202-482-2456, E-mail: Reginald.Miller@trade.gov.

Sean Timmins,
Global Trade Programs, Commercial Service Trade Missions Program.

[FR Doc. 2010-4349 Filed 3-2-10; 8:45 am]

BILLING CODE 3510-FP-P